DEPARTMENT OF TRANSPORTATION

Federal Aviation Administration

Notice of Intent To Rule on Application 04-02-C-00-BFF To Impose and Use the Revenue From a Passenger Facility Charge (PFC) at Western Nebraska Regional Airport, Scottsbluff, NE

AGENCY: Federal Aviation Administration, (FAA), (DOT).

ACTION: Notice of Intent to Rule on Application.

SUMMARY: The FAA proposes to rule and invites public comment on the application to impose and use the revenue from a PFC at Western Nebraska Regional Airport under the provisions of the Aviation Safety and Capacity Expansion Act of 1990 (Title IX of the Omnibus Budget Reconciliation Act of 1990) (Pub. L. 101-508) and Part 158 of the Federal Aviation Regulations (14 CFR Part 158).

DATES: Comments must be received on or before April 26, 2004.

ADDRESSES: Comments on this application may be mailed or delivered in triplicate to the FAA at the following address: Federal Aviation Administration, Central Region, Airports Division, 901 Locust, Kansas City, MO 64106.

In addition, one copy of any comments submitted to the FAA must be mailed or delivered to Mr. Darwin Skelton, Airport Manager, Western Nebraska Regional Airport, at the following address: Western Nebraska Regional Airport, 250094 Robertson Road, Scottsbluff, Nebraska 69361.

Air carriers and foreign air carriers may submit copies of written comments previously provided to the Western Nebraska Regional Airport, under section 158.23 of Part 158.

FOR FURTHER INFORMATION CONTACT: Lorna K. Sandridge, PFC Program Manager, FAA, Central Region, 901 Locust, Kansas City, MO 64106, (816) 329-2641. The application may be reviewed in person at this same location.

SUPPLEMENTARY INFORMATION: The FAA proposes to rule and invites public comment on the application to impose and use the revenue from a PFC at the Western Nebraska Regional Airport under the provisions of the Aviation Safety and Capacity Expansion Act of 1990 (Title IX of the Omnibus Budget Reconciliation Act of 1990) (Pub. L. 101-508) and Part 158 of the Federal Aviation Regulations (14 CFR Part 158).

On January 14, 2004, the FAA determined that the application to impose and use the revenue from a PFC submitted by the Western Nebraska Regional Airport was not substantially complete within the requirements of § 158.25 of Part 158. The Western Nebraska Regional Airport submitted supplemental information on March 10, 2004, to complete the application. The FAA will approve or disapprove the supplemental application, in whole or in part, no later than July 8, 2004.

The following is a brief overview of the application.

Level of the proposed PFC: $4.50.

Proposed charge effective date: October, 2004.

Proposed charge expiration date: April, 2007.

Total estimated PFC revenue: $112,710.

Brief description of proposed project(s): Construct new terminal.

Any person may inspect the application in person at the FAA office listed above under FOR FURTHER INFORMATION CONTACT.

In addition, any person may, upon request, inspect the application, notice and other documents germane to the application in person at the Western Nebraska Regional Airport.

Issued in Kansas City, Missouri on March 12, 2004.
Jim Johnson,
Acting Manager, Airports Division, Central Region

[FR Doc. 04-6754 Filed 3-25-04; 8:45 am]

BILLING CODE 4910-13-M